DEPARTMENT OF LABOR

Employment and Training Administration

[TA-W-50,383]

Employment Control, Inc.; Easton, Maryland; Notice of Termination of Investigation

Pursuant to section 221 of the Trade Act of 1974, an investigation was initiated on December 18, 2002, in response to a worker petition which was filed on behalf of workers at Employment Control, Inc., Easton, Maryland.

An active certification covering the petitioning group of workers is already in effect (TA-W-41,976, as amended). Consequently, further investigation in this case would serve no purpose, and the investigation has been terminated.

Signed in Washington, DC this 13th day of January, 2003.
Linda G. Poole,
Certifying Officer, Division of Trade Adjustment Assistance.

[FR Doc. 03-2566 Filed 2-3-03; 8:45 am]

BILLING CODE 4510-30-P